DEPARTMENT OF LABOR

Employment and Training Administration

[TA-W-81,298]

Syniverse Technologies, Inc., Including On-Site Leased Workers From Insight Global Stone Staffing, and Randstad Formerly Known as Sapphire Technologies, Watertown, MA; Amended Certification Regarding Eligibility To Apply for Worker Adjustment Assistance

In accordance with Section 223 of the Trade Act of 1974, as amended (“Act”), 19 U.S.C. 2273, the Department of Labor issued a Certification of Eligibility to Apply for Worker Adjustment Assistance on April 4, 2012, applicable to workers of Syniverse Technologies, Inc., Watertown, Massachusetts, including on-site leased workers from Insight Global, Stone Staffing, Randstad formerly known as Sapphire Technologies, Watertown, Massachusetts. The Department's notice of determination was published in the Federal Register on Thursday, April 19, 2012 (Vol. 77, No. 76 FR 23510).

At the request of State Workforce Office, the Department reviewed the certification for workers of the subject firm. The workers were engaged in the supply of telecommunication services.

The company reports that workers leased from Insight Global, Stone Staffing, Randstad, formerly known as Sapphire Technologies, were employed on-site at the Watertown, Massachusetts location of Syniverse Technologies, Inc. The Department has determined that these workers were sufficiently under the control of the subject firm to be considered leased workers.

Based on these findings, the Department is amending this certification to include workers leased from Insight Global, Stone Staffing, Randstad, formerly known as Sapphire Technologies, working on-site at the Watertown, Massachusetts location of Syniverse Technologies, Inc.

The amended notice applicable to TA-W-81,298 is hereby issued as follows:

All workers of Insight Global, Stone Staffing, Randstad formerly known as Sapphire Technologies, reporting to Syniverse Technologies, Inc., Watertown, Massachusetts, who became totally or partially separated from employment on or after February 6, 2011, through April 4, 2014, and all workers in the group threatened with total or partial separation from employment on the date of certification through two years from the date of certification, are eligible to apply for adjustment assistance under Chapter 2 of Title II of the Trade Act of 1974, as amended.

Signed in Washington, DC this 28th day of June, 2012.
Michael W. Jaffe,
Certifying Officer, Office of Trade Adjustment Assistance.

[FR Doc. 2012-16742 Filed 7-9-12; 8:45 am]

BILLING CODE P